FEDERAL COMMUNICATIONS COMMISSION

Sunshine Act Meeting; Revised Sunshine Notice; FCC To Hold Open Commission Meeting, Thursday, March 5, 2009

March 3, 2009.

The Federal Communications Commission will hold an Open Meeting on Thursday, March 5, 2009, which is scheduled to commence at 9:30 a.m. in Room TW-C305, at 445 12th Street, SW., Washington, DC. (See February 26, 2009 announcement 74 FR 9244, March 3, 2009.)

• The meeting will include presentations and discussion by senior agency officials as well as industry, consumer groups and others involved in the Digital Television Transition.

• Congress has set June 12, 2009 as the final deadline for terminating full-power analog broadcasts. The purpose of the meeting is to educate and inform the Commission and the public about the digital television transition, including the partial transition on February 17, 2009, when some full-power broadcast television stations stopped broadcasting in analog and began broadcasting in digital only.

Agenda and Witness List

9:30 a.m. Opening Statements by Chairman and Commissioners.

9:45 a.m. Overview.

Gary Epstein.

10 a.m. Panel 1: FCC and NTIA Reports on the Events of February 17, 2009 and Future Plans.

Eloise Gore, Associate Bureau Chief, Media Bureau, Federal Communications Commission.

Andrew Martin, Chief Information Officer, Federal Communications Commission.

Cathy Seidel, Chief, Consumer and Governmental Affairs Bureau, Federal Communications Commission.

Patrick Webre, Legal Advisor, Consumer and Governmental Affairs Bureau, Federal Communications Commission.

Julius Knapp, Chief, Office of Engineering and Technology, Federal Communications Commission.

Dr. Bernadette McGuire-Rivera, Associate Administrator, Office of Telecommunications and Information Applications, National Telecommunications and Information Administration.

10:45 a.m. Break.

11 a.m. Panel 2: Industry and Consumer Group Reports on the Events of February 17, 2009 and Future Plans.

David Rehr, President and CEO, National Association of Broadcasters.

Kyle McSlarrow, President and CEO, National Cable & Telecommunications Association.

David Donovan, President, MSTV.

Gene Kimmelman, Vice President for Federal and International Affairs, Consumers Union.

Christopher A. McLean, Executive Director, Consumer Electronics Retailers Coalition.

Mark Lloyd, Vice President for Strategic Initiatives, Leadership Conference on Civil Rights and Leadership Conference on Civil Rights Education Fund.

Sandy Markwood, Chief Executive Officer, National Association of Area Agencies on Aging.

11:45 a.m. Closing Statements/Adjournment.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Marlene H. Dortch,
Secretary, Federal Communications Commission.

[FR Doc. E9-4888 Filed 3-4-09; 4:15 pm]

BILLING CODE 6712-01-P